DEPARTMENT OF ENERGY

Federal Energy Regulatory Commission

[Docket No. CP18-538-000]

Sendero Carlsbad Gateway, LLC; Notice of Schedule for Environmental Review of the Gateway Project

On August 9, 2018, Sendero Carlsbad Gateway, LLC (Gateway) filed an application in Docket No. CP18-538-000 requesting a Certificate of Public Convenience and Necessity pursuant to section 7(c) of the Natural Gas Act to construct and operate certain natural gas pipeline facilities. The proposed project is known as the Gateway Project (Project), and would provide about 400 million standard cubic feet of natural gas per day from Gateway's newly expanded Carlsbad Plant (a cryogenic gas processing plant) to the Agua Blanca intrastate pipeline owned by White Water Midstream, LLC. According to Gateway, the Project would help alleviate natural gas supply delivery constraints in southeast New Mexico and satisfy overall demand in the western region of the United States.

On August 22, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 11, 2019

90-day Federal Authorization Decision Deadline—April 11, 2019

If a schedule change becomes necessary, additional notice will be provided so that the relevant agencies are kept informed of the Project's progress.

Project Description

The Gateway Project would consist of the following facilities:

• Approximately 23 miles of 24-inch-diameter natural gas transmission pipeline in Eddy County, New Mexico and Culberson County, Texas;

• a new meter station (including a mainline block valve and pig ¹ launcher) within the existing Carlsbad Plant in Eddy County;

¹ A “pig” is a tool that the pipeline company inserts into and pushes through the pipeline for cleaning the pipeline, conducting internal inspections, or other purposes.

• a mainline block valve at milepost 15.0 in Eddy County; and

• a pig receiver and mainline block valve at milepost 23.3 near a White Water Midstream, LLC meter station in Culberson County.

Background

On August 29, 2018, the Commission issued a Notice of Intent to Prepare An Environmental Assessment for the Proposed Gateway Project, And Request for Comments on Environmental Issues (NOI). The NOI was sent to affected landowners; federal, state, and local government agencies; elected officials; environmental and public interest groups; Native American tribes; other interested parties; and local libraries and newspapers.

In response to the NOI, the Commission received comments from the U.S. Department of Agriculture, Texas Commission on Environmental Quality, Texas Parks and Wildlife Department, New Mexico Department of Game and Fish, New Mexico State Historic Preservation Office, and one Native American tribe. The primary issues raised by the commentors were appropriate best management practices for construction and restoration, special status species, surface water, and impacts on vegetation and wildlife. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the projects are available from the Commission's Office of External Affairs at (866) 208-FERC or on the FERC website (www.ferc.gov). Using the “eLibrary” link, select “General Search” from the eLibrary menu, enter the selected date range and “Docket Number” excluding the last three digits (i.e., CP18-538), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 17, 2018.
Kimberly D. Bose,
Secretary.

[FR Doc. 2018-23114 Filed 10-22-18; 8:45 am]

BILLING CODE 6717-01-P